ENVIRONMENTAL PROTECTION AGENCY

[ER-FRL-6632-6]

Gulf of Mexico Offshore Continental Shelf Oil and Gas Extraction National Pollutant Discharge Elimination System General Permit Supplemental Environmental Impact Statement

AGENCY: U.S. Environmental Protection Agency (EPA).

ACTION: Notice of Intent to prepare a Supplemental Environmental Impact Statement (SEIS) on the proposed reissuance of a National Pollutant Discharge Elimination System General Permit (GP) applicable to oil and gas extraction facilities offshore of Mississippi, Alabama and Florida located in Gulf of Mexico waters that are under EPA Region 4 jurisdiction.

Purpose: Pursuant to 40 CFR 1501.7 and in accordance with section 102(2)(c) of the National Environmental Policy Act (NEPA), EPA has identified the need to prepare a SEIS and therefore issues this Notice of Intent pursuant to 40 CFR 1507.7.

For Further Information, To Submit Comments and To Be Placed on the Project Mailing List Contact: Ms Lena Scott, Environmental Protection Agency—Region 4, Office of Environmental Assessment, 61 Forsyth Street, SW., Atlanta, Georgia 30303, Telephone: (404) 562-9607 or FAX: (404) 562-9598 or E-mail:scott.lena@epa.gov.

SUMMARY: EPA intends to prepare the SEIS to evaluate the impacts of issuing a GP for regulating the discharge of pollutants into federal waters of the Gulf of Mexico under Region 4 jurisdiction that result from exploratory drilling, development and completion of productive wells and the production of oil and gas resources. On January 22, 2001, final effluent limitations for synthetic-based drilling fluids (SBF) were promulgated by EPA. SBF along with conventional water based-fluids will now be considered for allowable discharge under a reissued GP. EPA is required to conduct this environmental review because oil and gas production activities are defined as new sources pursuant to 40 CFR 122.29. A consultant under contract to EPA will assist in the preparation of the SEIS.

Need for Action: Regulations (40 CFR 122.28), pursuant to section 402 of the Clean Water Act, authorize EPA to issue a general permit when it is appropriate for a category of point source discharges under the same operating conditions and within a specified geographic area. Based on the present information and the environmental review completed in 1998 for the GP presently in force, primary environmental concerns to be addressed in the SEIS include impacts from pollutant discharges to the marine environment including bottom-dwelling biota and water column biota. Bioaccumulation of pollutants in marine organisms consumed by humans will also be addressed. Based on the industry's interest in deep water areas of the Outer Continental Shelf, the SEIS will emphasize potential impacts to the deep water environment not fully addressed in the 1998 EIS. Absent EPA's reissuance, the existing GP will expire in 2003 and all NPDES permitting would require individual permits for each exploration and production project.

Alternatives: The following proposed alternatives have been defined:

• EPA reissues the GP in its present form.

• EPA revises the GP to include SBF.

• EPA withholds issuance of any general permit and the existing GP expires in 2003 (the No Action Alternative).

Scoping: EPA is requesting written comments from federal, state and local governments, industry and the general public on the need for action, scope of the alternatives, and environmental and economic concerns. The scoping process will last for 45 days beginning with the availability of this Notice.

Estimated Date of Draft SEIS Release: February 2003.

Responsible Official: J. I. Palmer, Jr., Regional Administrator, Environmental Protection Agency, Region 4.

Dated: August 26, 2002.
Anne Norton Miller,
Director, OFA.

[FR Doc. 02-22240 Filed 8-29-02; 8:45 am]

BILLING CODE 6560-50-P